DEPARTMENT OF HEALTH AND HUMAN SERVICES

Centers for Disease Control and Prevention

[30Day-19-18AFX]

Agency Forms Undergoing Paperwork Reduction Act Review

In accordance with the Paperwork Reduction Act of 1995, the Centers for Disease Control and Prevention (CDC) has submitted the information collection request titled Traumatic Brain Injury Disparities in Rural Areas (TBIDRA) to the Office of Management and Budget (OMB) for review and approval. CDC previously published a “Proposed Data Collection Submitted for Public Comment and Recommendations” notice on June 7, 2018 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Traumatic Brain Injury Disparities in Rural Areas (TBIDRA)—New — National Center for Injury Prevention and Control (NCIPC), Centers for Disease Control and Prevention (CDC).

Background and Brief Description

Traumatic Brain Injury (TBI) is a significant public health concern in the United States. Research indicates that residents of rural areas have both higher incidence and higher mortality rates from TBI than do residents of urban areas, and that the prevalence of TBI-related disability in rural geographical areas is higher than in urban and suburban areas. The obstacles healthcare providers and patients face in rural areas are vastly different from those in urban areas. There is little published research specifically related to the challenges rural providers face in TBI diagnosis and treatment, and even less examination into effective ways to address gaps in service and improve TBI outcomes. The National Center for Injury Prevention and Control at the CDC, in a 2015 “Report to Congress on TBI in the United States,” determined that certain population groups, including residents of rural geographic areas, require special consideration when it comes to researching TBI.

This is a New Information Collection Request for two years to collect information on challenges that rural healthcare providers face in diagnosing, treating, and managing TBI of all severities and developing a knowledge base upon which we can begin to address gaps in services to improve clinical care and TBI outcomes in rural communities. The target population for the data collection effort includes physicians, nurse practitioners (NPs), and physician assistants (PAs) in selected specialties (general or family practice, emergency medicine, pediatrics) working in direct patient care in rural and urban areas. The focus of the study is rural healthcare providers; urban healthcare providers will be included in this study to allow for comparison in identifying the distinct challenges and opportunities for rural healthcare providers. This study has two data collection methods. A web survey to gather quantitative data on the unique challenges faced by rural clinicians, and focus groups to gain deeper insight into the context supporting and/or inhibiting access to comprehensive TBI evaluation and treatment, the study will collect qualitative data through focus groups with rural clinicians.

The total estimated annualized burden hours are 200. There is no cost to respondents other than their time.

Estimated Annualized Burden Hours
Type of respondent | Form name | Number of respondents | Number of responses per respondent | Average burden per response (in hrs)
Health care providers (Primary Care Physician, Emergency Physician, Nurse Practitioner and Physician Assistant) | TBI Provider Survey | 600 | 1 | 15/60
| Focus group screener | 36 | 1 | 5/60
| Focus group consent and questionnaire | 31 | 1 | 5/60
| Focus group discussion guide | 31 | 1 | 85/60

Jeffrey M. Zirger,
Acting Lead, Information Collection Review Office, Office of Scientific Integrity, Office of Science, Centers for Disease Control and Prevention.

[FR Doc. 2018-25274 Filed 11-19-18; 8:45 am]

BILLING CODE 4163-18-P